COMMISSION ON CIVIL RIGHTS

Sunshine Act Meetings

AGENCY: United States Commission on Civil Rights.

ACTION: Notice of Commission public business meeting.

DATES: Friday, July 23, 2021, 12:00 p.m. EST.

ADDRESSES: Meeting to take place by telephone and is open to the public by telephone: 866-556-2439, Conference ID #: 3025132.

FOR FURTHER INFORMATION CONTACT: Angelia Rorison: 202-376-7700; publicaffairs@usccr.gov.

SUPPLEMENTARY INFORMATION: In accordance with the Government in Sunshine Act (5 U.S.C. 552b), the Commission on Civil Rights is holding a meeting to discuss the Commission's business for the month of July. This business meeting is open to the public. Computer assisted real-time transcription (CART) will be provided. The web link to access CART (in English) on Friday, July 23, 2021, is https://www.streamtext.net/player?event=USCCR. Please note that CART is text-only translation that occurs in real time during the meeting and is not an exact transcript.

Meeting Agenda

I. Approval of Agenda

II. Business Meeting

A. Discussion and Vote on Findings and Recommendations for the Disparities in Maternal Health Report

B. Discussion and Vote to Confirm October 22, 2021, as FEMA Field Briefing in Houston, TX

C. Discussion and Vote on Fiscal Year 2022 Business Meeting Calendar

D. Discussion and Vote on Advisory Committee Appointments

E. Presentations from Advisory Committees to the Commission on Recent Reports/Memos

F. Management and Operations

• Staff Director's Report

III. Adjourn Meeting

Dated: July 21, 2021.
Angelia Rorison,
USCCR Media and Communications Director.

[FR Doc. 2021-15874 Filed 7-29-21; 4:15 pm]

BILLING CODE 6335-01-P